DEPARTMENT OF VETERANS AFFAIRS

Notice of Request for Information Regarding Health Care Access Standards

AGENCY: Department of Veterans Affairs.

ACTION: Request for information.

SUMMARY: The Department of Veterans Affairs (VA) is requesting information to assist in implementing section 1703B of title 38, United States Code (U.S.C.), as added by section 104(a) of the John S. McCain III, Daniel K. Akaka, and Samuel R. Johnson VA Maintaining Internal Systems and Strengthening Integrated Outside Networks (MISSION) Act of 2018 (the VA MISSION Act) which directs VA to establish access standards for furnishing hospital care, medical services, and extended care services to covered veterans for purposes of the Veterans Community Care Program. In establishing these access standards, VA is required to consult with all pertinent Federal, private sector, and non-governmental entities. VA requests information from the public regarding the development of these access standards, including but not limited to information with regard to health plans on the use of access standards for the design of health plan provider networks, referrals from network providers to out-of-network providers, the appeals process for exemptions from benefit limits to out-of-network providers, and the measurement of performance against federal or state regulatory standards. With regard to health systems, VA requests information from the public including but not limited to the existence of standards for appointment wait times, the use of travel distance for establishing service areas, the development or use of guidelines to refer patients to out of system providers, and the measurement of performance against federal or state regulatory standards. Responses to this notice will support industry research and VA's evaluation of access standards.

DATES: July 30, 2018.

ADDRESSES: Written comments may be submitted through http://www.regulations.gov; by mail or hand delivery to the Director, Office of Regulation Policy and Management (00REG), Department of Veterans Affairs, 810 Vermont Avenue NW, Room 1063B, Washington, DC 20420; or by fax to 202-273-9026. Comments should indicate that they are submitted in response to “Notice of Request for Information Regarding Health Care Access Standards”. Copies of comments received will be available for public inspection in the Office of Regulation Policy and Management (00REG), Department of Veterans Affairs, 810 Vermont Ave. NW, Room 1063B, Washington, DC 20420, between the hours of 8:00 a.m. and 4:30 p.m., Monday through Friday (except Federal holidays). Please call (202) 461-4902 (this is not a toll-free number) for an appointment. During the comment period, comments may also be viewed online through the Federal Docket Management System at www.regulations.gov.

FOR FURTHER INFORMATION CONTACT: Christina Hosenfeld, Management Analyst, Office of the Deputy Under Secretary for Health for Community Care, Veterans Health Administration, Department of Veterans Affairs, 810 Vermont Avenue NW, Washington, DC 20420, (202) 461-4112. This is not a toll free number.

SUPPLEMENTARY INFORMATION: The John S. McCain III, Daniel K. Akaka, and Samuel R. Johnson VA Maintaining Internal Systems and Strengthening Integrated Outside Networks Act of 2018, Public Law 115-182, (the VA MISSION Act) creates a new 38 U.S.C. 1703B that contains requirements for VA to facilitate the establishment and use of access standards. Section 1703B(c) specifically requires VA to consult with all pertinent Federal entities, entities in the private sector, and other nongovernmental entities in establishing access standards. This notice and request for information serves as one of the means for VA to consult with these groups and entities. We note that VA will also hold a public hearing on Friday, July 13, 2018, to provide these groups and entities an opportunity to provide additional information. VA will use the comments it receives to help determine the access standards in compliance with the VA MISSION Act. VA will then submit a report, no later than March 3, 2019, as required by section 1703B(d)(1), detailing the access standards to the appropriate committees of Congress. The access standards will ultimately be published in the Federal Register and will be made available on a VA internet website.

In order to submit a report to Congress detailing the access standards by March 3, 2019, VA must expedite this consultation, which will be foundational to the process of determining the access standards. Hence, this notice and request for information has a comment period of 30 days. VA believes that 30 days is sufficient to provide comments, as the groups and entities with expertise in access standards will likely have the information readily available or can quickly compile and submit such information.

This notice is a request for information only. Commenters are encouraged to provide complete but concise responses to the questions outlined below. VA may choose to contact individual commenters, and such communications would serve to further clarify their written comments.

Request for Information: VA requests information that will assist in developing the access standards required by the VA MISSION Act. This includes information regarding the development of these access standards, including but not limited to information, with regard to health plans, on the use of access standards for the design of health plan provider networks, referrals from network providers to out-of-network providers, the appeals process for exemptions from benefit limits to out-of-network providers, and with respect to health systems, the existence of standards for appointment wait times, the use of travel distance for establishing service areas, the development or use of guidelines to refer patients to out of system providers, and the measurement of performance against regulatory standards.

Specifically, VA requests information from health plans and systems related to the below:

1. Do health plans use internal access standards for the design of provider networks and the application of in network/out of network benefits that are more stringent than regulatory standards (time or distance of travel, appointment wait times, provider/member ratios)? If so, what are these internal standards? How does the health plan measure performance against regulatory and internal access standards? How does the health plan respond to findings when access standards are not being met? Are current regulatory access standards cost-effective while maintaining quality standards? Do health plans have a process to handle routine requests from members or referring providers for exemptions to benefit limits when members seek out of network care or a lower tier provider?

2. Do health plans allow for appeals by providers or members to request exemptions from benefit limits related to out of network care or care by a lower tier provider? Is external review allowed for such appeals?

3. What are health plan practices regarding internal, regulatory, and/or accreditation standards for appointment wait times, including variance by specialty or type of service? How does the health plan use travel distance or time and/or provider-to-population ratios in deciding which geographic areas to consider as primary or secondary service areas?

4. Are clinicians within the health system given guidelines or rules on when to refer patients to out of system providers? For example, are clinicians encouraged to refer out of system if in-system wait times are longer than standard, travel time or distance to an in-system provider is too long, the patient's ability to travel is compromised or the frequency of treatment makes travel to an in-network provider difficult?

Signing Authority

The Secretary of Veterans Affairs, or designee, approved this document and authorized the undersigned to sign and submit the document to the Office of the Federal Register for publication electronically as an official document of the Department of Veterans Affairs. Jacquelyn Hayes-Byrd, Acting Chief of Staff, Department of Veterans Affairs, approved this document on June 25, 2018, for publication.

Dated: June 25, 2018.
Jeffrey M. Martin,
Impact Analyst, Office of Regulation Policy & Management, Office of the Secretary, Department of Veterans Affairs.

[FR Doc. 2018-13952 Filed 6-28-18; 8:45 am]

BILLING CODE 8320-01-P